COMMITTEE FOR PURCHASE FROM PEOPLE WHO ARE BLIND OR SEVERELY DISABLED

Appointment Performance Review Board Members

AGENCY: Committee for Purchase From People Who Are Blind or Severely Disabled.

ACTION: Notice.

SUMMARY: Appointment of individuals to serve as members of the Performance Review Board.

DATES: Applicable Date: These appointments are effective on November 4, 2024.

FOR FURTHER INFORMATION CONTACT: Kelvin R. Wood, Chief of Staff, U.S. AbilityOne Commission; kwood@abilityone.gov; 202-809-3967.

SUPPLEMENTARY INFORMATION: The Chairperson of the Committee for Purchase From People Who Are Blind or Severely Disabled, operating as the U.S. AbilityOne Commission, has appointed the following individuals to serve on the Commission's Performance Review Board (PRB):

Chairperson of the PRB: Jeffrey A. Koses

Member—Jennifer Sheehy

Member—Robert Hogue

Member—Malcom Shorter

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register . You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Authority: This notice is published in the Federal Register pursuant to the requirement of 5 U.S.C. 4314(c)(4).

Michael R. Jurkowski,
Director, Business Operations.

[FR Doc. 2024-23602 Filed 10-10-24; 8:45 am]

BILLING CODE 6353-01-P